SOCIAL SECURITY ADMINISTRATION

[Docket No. SSA-2014-0053]

Social Security Ruling, SSR 15-1p; Titles II and XVI: Evaluating Cases Involving Interstitial Cystitis (IC); Correction

AGENCY: Social Security Administration.

ACTION: Notice of Social Security Ruling; Correction.

SUMMARY: The Social Security Administration published a document in the Federal Register of March 18, 2015, in FR Doc. 2015-05680, on page 14217, in the first column, in section “D,” in the second sentence, delete “and dimethyl sulfoxide”.

Faye I. Lipsky,
Director, Office of Regulations and Reports Clearance Social Security Administration.

[FR Doc. 2015-08136 Filed 4-8-15; 8:45 am]

BILLING CODE 4191-02-P